DEPARTMENT OF TRANSPORTATION

Federal Aviation Administration

14 CFR Part 39

[Docket No. FAA-2017-1180; Product Identifier 2012-NM-201-AD; Amendment 39-19144; AD 2018-01-03]

RIN 2120-AA64

Airworthiness Directives; Airbus Airplanes

AGENCY: Federal Aviation Administration (FAA), DOT.

ACTION: Final rule; request for comments.

SUMMARY: We are adopting a new airworthiness directive (AD) for certain Airbus Model A300 B4-600, B4-600R, and F4-600R series airplanes, and Model A300 C4-605R Variant F airplanes (collectively called Model A300-600 series airplanes); and Airbus Model A310 series airplanes. This AD requires contacting the FAA to obtain instructions for addressing the unsafe condition on these products, and doing the actions specified in those instructions. This AD was prompted by reports of the portable oxygen cylinder assembly (POCA) slipping from its bracket inside a one-frame overhead stowage compartment. We are issuing this AD to address the unsafe condition on these products.

DATES: This AD becomes effective January 18, 2018.

We must receive comments on this AD by February 20, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

Examining the AD Docket

You may examine the AD docket on the internet at http://www.regulations.gov by searching for and locating Docket No. FAA-2017-1180; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Dan Rodina, Aerospace Engineer, International Section, Transport Standards Branch, FAA, 1601 Lind Avenue SW, Renton, WA 98057-3356; telephone: 425-227-2125; fax: 425-227-1149.

SUPPLEMENTARY INFORMATION:

Discussion

The European Aviation Safety Agency (EASA), which is the Technical Agent for the Member States of the European Union, has issued EASA Airworthiness Directive 2015-0146, dated July 22, 2015; corrected July 24, 2015, (referred to after this as the Mandatory Continuing Airworthiness Information, or “the MCAI”), to correct an unsafe condition for certain Airbus Model A300 B4-600, B4-600R, and F4-600R series airplanes, and Model A300 C4-605R Variant F airplanes (collectively called Model A300-600 series airplanes); and Airbus Model A310 series airplanes. The MCAI states:

During maintenance, an operator found that one portable oxygen cylinder assembly (POCA) had slipped from its bracket inside a one-frame [overhead stowage compartment] OHSC located near door L1. The investigation results indicated that the POCA had fallen behind the OHSC through a cut-out on the OHSC outboard panel and damaged some electrical wires, resulting in arcing, melted wires, partial burn stains on the POCA and on the inside of the fuselage.

This condition, if not detected and corrected, could possibly result in an uncontrolled fire in the affected area.

To address this potential unsafe condition, Airbus issued [alert operators transmission] AOT A25W003-12, requesting a one-time inspection of the affected POCA installation inside one-frame OHSC, corrective actions, and repetitive checks. Consequently, EASA issued Emergency AD 2012-0032-E to require repetitive inspections of the affected POCA installation(s) inside one-frame OHSC and, depending on findings, the accomplishment of applicable corrective actions(s).

Since that [EASA] AD was issued, it was discovered that more aeroplanes were potentially affected by this unsafe condition. Airbus issued AOT A25W003-12 Revision 1 to inform operators accordingly, and EASA issued AD 2012-0245-E, retaining the requirements of EASA AD 2012-0232E, which was superseded, to add these potentially affected aeroplanes to the Applicability.

Since that [EASA] AD was issued, Airbus issued Service Bulletin (SB) A300-25-6222 and SB A310-25-2210 to improve the POCA installation inside one-frame OHSC.

For the reason described above, this [EASA] AD retains the requirements of EASA AD 2012-0245-E, which is superseded, and requires the installation of a new protection cover as modification of POCA installation inside one-frame OHSC, which constitutes terminating action for the required repetitive [detailed visual inspection] DVI.

This [EASA] AD is republished to correct a typographical error in the Reason.

You may examine the MCAI on the internet at http://www.regulations.gov by searching for and locating Docket No. FAA-2017-1180.

FAA's Determination and Requirements of This AD

This product has been approved by the aviation authority of another country, and is approved for operation in the United States. Pursuant to our bilateral agreement with the State of Design Authority, we have been notified of the unsafe condition described in the MCAI. We are issuing this AD because we evaluated all pertinent information and determined the unsafe condition exists and is likely to exist or develop on other products of these same type designs.

FAA's Determination of the Effective Date

Since there are currently no domestic operators of this product, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2017-1180; Product Identifier 2012-NM-201-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. This AD requires contacting the FAA to obtain instructions for addressing the unsafe condition, and doing the actions specified in those instructions. Based on the actions specified in the MCAI AD, we are providing the following cost estimates for an affected airplane that is placed on the U.S. Register in the future:

Estimated Costs
Action | Labor cost | Parts cost | Cost per product
Inspection | 1 work-hour × $85 per hour = $85 per inspection cycle | $0 | $85 per inspection cycle.
Modification | 33 work-hours × $85 per hour = $2,805 | 2,000 | 4,805.

We have received no definitive data that would enable us to provide cost estimates for the repair or replacement specified in this AD. We estimate the following costs to do any necessary on-condition reporting that would be required based on the results of the required action:

On-Condition Costs
Action | Labor cost | Parts cost | Cost per product
Reporting | 1 work-hour × $85 per hour = $85 | $0 | $85

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-01-03 Airbus: Amendment 39-19144; Docket No. FAA-2017-1180; Product Identifier 2012-NM-201-AD.

(a) Effective Date

This AD becomes effective January 18, 2018.

(b) Affected ADs

None.

(c) Applicability

This AD applies to the Airbus airplanes identified in paragraphs (c)(1) through (c)(5) of this AD, certificated in any category, equipped with one-frame overhead stowage compartments (OHSC), except for airplanes in an all-cargo configuration.

(1) Model A300 B4-601, B4-603, B4-620, and B4-622 airplanes.

(2) Model A300 B4-605R and B4-622R airplanes.

(3) Model A300 F4-605R and F4-622R airplanes.

(4) Model A300 C4-605R Variant F airplanes.

(5) Model A310-203, -204, -221, -222, -304, -322, -324, and -325 airplanes.

(d) Subject

Air Transport Association (ATA) of America Code 25, Equipment/furnishings.

(e) Reason

This AD was prompted by reports of the portable oxygen cylinder assembly (POCA) slipping from its bracket inside a one-frame overhead stowage compartment (OHSC). We are issuing this AD to prevent the POCA from falling behind the OHSC through a cut-out on the OHSC outboard panel, which could damage electrical wiring, resulting in electrical arcing, melted wires, and heat damage, and could ultimately result in an uncontrolled fire in the affected area.

(f) Compliance

Comply with this AD within the compliance times specified, unless already done.

(g) Required Action(s)

Within 30 days after the effective date of this AD, request instructions from the Manager, International Section, Transport Standards Branch, FAA, to address the unsafe condition specified in paragraph (e) of this AD; and accomplish the action(s) at the times specified in, and in accordance with, those instructions. Guidance can be found in Mandatory Continuing Airworthiness Information (MCAI) European Aviation Safety Agency (EASA) AD 2015-0146, dated July 22, 2015; corrected July 24, 2015.

(h) Alternative Methods of Compliance (AMOCs)

The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(i) Related Information

(1) Refer to MCAI EASA AD 2015-0146, dated July 22, 2015; corrected July 24, 2015, for related information. You may examine the MCAI on the internet at http://www.regulations.gov by searching for and locating Docket No. FAA-2017-1180.

(2) For more information about this AD, contact Dan Rodina, Aerospace Engineer, International Section, Transport Standards Branch, FAA, 1601 Lind Avenue SW, Renton, WA 98057-3356; telephone 425-227-2125; fax 425-227-1149.

(j) Material Incorporated by Reference

None.

Issued in Renton, Washington, on December 26, 2017.
John P. Piccola, Jr.,
Acting Director, System Oversight Division, Aircraft Certification Service.

[FR Doc. 2017-28380 Filed 1-2-18; 8:45 am]

BILLING CODE 4910-13-P